DEPARTMENT OF AGRICULTURE

Foreign Agricultural Service

Meeting of Advisory Committee on Emerging Markets

AGENCY: Foreign Agricultural Service, USDA.

ACTION: Notice of meeting.

SUMMARY: Pursuant to the provisions of section 10(a)(2) of the Federal Advisory Committee Act (Pub. L. 92-463), notice is hereby given that the next meeting of the Advisory Committee on Emerging Markets will be held on June 15-16, 2004. The role of the committee is to provide information and advice, based upon knowledge and expertise of the members, useful to the U.S. Department of Agriculture (USDA) in implementing the Emerging Markets Program. The committee also advises USDA on the involvement of the U.S. private sector in cooperative work with emerging markets in food and rural business systems, and reviews proposals submitted to the Program.

DATES: The meeting will convene on June 15, 2004, from 1:30 p.m. to 4:30 p.m., and on June 16, 2004, from 9:30 a.m. to 4:30 p.m.

ADDRESSES: The meeting will be held in Room 5066—South Building, U.S. Department of Agriculture, 1400 Independence Avenue, SW., Washington, DC 20250. Please send written comments to Douglas Freeman, Foreign Agricultural Service, U.S. Department of Agriculture, 14th and Independence Ave., SW., Washington, DC 20250, Stop 1042.

FOR FURTHER INFORMATION CONTACT: Douglas Freeman by e-mail at emo@fas.usda.gov or by telephone at (202) 720-4327.

SUPPLEMENTARY INFORMATION: The purpose of this meeting is to review and discuss those proposals submitted to the Emerging Markets Program, which qualify for funding from the program. The meeting is open to the public and members of the public may provide comments, but they should not make any oral comments at the meeting unless invited to do so by the co-chairpersons.

Signed at Washington, DC, on May 26, 2004.
A. Ellen Terpstra,
Administrator, Foreign Agricultural Service.

[FR Doc. 04-12694 Filed 6-3-04; 8:45 am]

BILLING CODE 3410-10-P